DEPARTMENT OF HOMELAND SECURITY

Office of the Secretary

[Docket No. DHS-2008-0061]

Public Workshop: Implementing Privacy Protections in Government Data Mining

AGENCY: Privacy Office, DHS.

ACTION: Notice announcing public workshop.

SUMMARY: The Department of Homeland Security Privacy Office will host a public workshop, Implementing Privacy Protections in Government Data Mining.

DATES: The two-day workshop will be held on July 24, 2008, from 8:30 a.m. to 4:30 p.m., and on July 25th, 2008, from 8:30 a.m. to 12:30 p.m. Written comments should be received on or before July 17, 2008.

ADDRESSES: The workshop will be held in the International Ballroom East, Hilton Washington, 1919 Connecticut Avenue, NW., Washington, DC 20009. Send comments by e-mail to privacyworkshop@dhs.gov, by fax to (703)-235-0442, or by mail to Toby Milgrom Levin, Senior Advisor, Privacy Office, Department of Homeland Security, Washington, DC 20528. All comments must include the words “Data Mining Workshop” and the Docket Number (DHS-2008-0061). To register for the Workshop, please send an e-mail to privacyworkshop@dhs.gov with “Data Mining Workshop Registration” in the subject line, and your name and organizational affiliation in the body of the e-mail. Alternatively, you may call 703-235-0780 to register and provide this information.

FOR FURTHER INFORMATION CONTACT: Toby Milgrom Levin, DHS Privacy Office, Department of Homeland Security, Washington, DC 20528; by telephone 703-235-0780; by facsimile 703-235-0442; or by e-mail at privacyworkshop@dhs.gov.

SUPPLEMENTARY INFORMATION: The Department of Homeland Security (DHS) Privacy Office is holding a public workshop to bring together leading academic, policy, and technology experts to explore methods of validating the accuracy and effectiveness of data mining models and rules, and the role of anonymization tools and automated audit controls in protecting privacy. The purpose of the workshop is to inform the Privacy Office as it prepares its 2008 report to Congress on DHS data mining activities.¹ The workshop will consist of a series of presentations and panel discussions that include the broad range of stakeholder perspectives. Workshop attendees will have an opportunity to ask questions after each panel.

¹ The Department has submitted three prior reports to the Congress on data mining: The 2008 Letter Report Pursuant to Section 804 of the Implementing Recommendations of the 9/11 Commission Act of 2007; the 2007 Data Mining Report: DHS Privacy Office Response to House Report 109-699 (July 6, 2007) and the Data Mining Report: DHS Privacy Office Response to House Report 108-774 (July 6, 2006). These reports are available on the DHS Privacy Office Web site at http://www.dhs.gov/privacy. The 2008 Letter Report provided a preliminary analysis of DHS data mining activities, with the understanding that a comprehensive report would follow. This workshop is intended to provide context for that comprehensive report.

The workshop is open to the public, and no fee is required for attendance.

Topics for Comment: To develop a comprehensive record regarding privacy protections in government data mining, the DHS Privacy Office also invites interested parties to submit written comments as described below. Comments should be received on or before July 17, 2008, and should be as specific as possible. The Privacy Office is particularly interested in receiving comments on the following topics:

1. How can government data mining activities be carried out in a manner that respects privacy?

2. How do the privacy issues posed by government data mining compare to those posed by other types of data analysis by the government? What are the similarities and differences? Are there privacy issues that are unique to government data mining?

3. What should be the elements of privacy best practices for government data mining? The Privacy Office requests that, where possible, comments include references to literature, technical standards and/or other resources that would support implementation of the best practices identified.

4. What should be the criteria for validating government data mining models and rules?

5. Are anonymization techniques or tools currently available that could be used in conjunction with government data mining? How effective are these techniques or tools? What are their costs and benefits? What degree of de-identification do they make possible?

6. What automated audit controls can be implemented in connection with government data mining? How effective are these controls? What are their costs and benefits?

7. Are there protections other than anonymization and automated audit controls that should be considered in connection with government data mining? How effective are any such protections? What are their costs and benefits?

8. Data quality plays an important role in the ability of government data mining techniques to produce accurate results. What data quality standards should DHS adopt for data mining?

9. What redress mechanisms should be implemented to protect privacy and also preserve the integrity and confidentiality of government investigative activities?

Written comments must include the words “Data Mining Workshop” and the Docket Number (DHS-2008-0061), and may be submitted by any one of the following methods:

• Federal eRulemaking Portal: http://www.regulations.gov. Follow the instructions for submitting comments.

• E-mail: privacyworkshop@dhs.gov. Include “Data Mining Workshop Comment” in the subject line of the message.

• Fax: 703-235-0442.

• Mail: Toby Milgrom Levin, Senior Advisor, Privacy Office, Department of Homeland Security, Washington, DC 20528.

All written comments received will be posted without alteration on the http://www.dhs.gov/privacy Web page for this workshop, including any personal contact information provided.

Registration: In order to assist us in planning for the workshop, we ask that attendees register in advance. To register, please send an e-mail to privacyworkshop@dhs.gov with “Data Mining Workshop Registration” in the subject line, and your name and organizational affiliation in the body of the e-mail. Alternatively, you may call 703-235-0780 to register and to provide the DHS Privacy Office with your name and organizational affiliation, if any. The Privacy Office will use this information only for purposes of planning this workshop and to contact you in the event of any logistical changes. An agenda and logistical information will be posted on the workshop Web page shortly before the event. A written transcript will be posted on the Web page following the event.

Special Assistance: Persons with disabilities who require special assistance should indicate this in their registration request and are encouraged to identify anticipated special needs as early as possible.

Dated: June 20, 2008.
Hugo Teufel III,
Chief Privacy Officer.

[FR Doc. E8-14394 Filed 6-24-08; 8:45 am]

BILLING CODE 4410-10-P